NATIONAL SCIENCE FOUNDATION

Notice of Permit Modification Received Under the Antarctic Conservation Act of 1978

AGENCY: National Science Foundation.

ACTION: Notice of Permit Modification Request Received and Permit Issued under the Antarctic Conservation Act of 1978, Public Law 95-541.

SUMMARY: The National Science Foundation (NSF) is required to publish a notice of requests to modify permits issued to conduct activities regulated and permits issued under the Antarctic Conservation Act of 1978. NSF has published regulations under the Antarctic Conservation Act at title 45 part 670 of the Code of Federal Regulations. This is the required notice of a requested permit modification and permit issued.

FOR FURTHER INFORMATION CONTACT: Nature McGinn, ACA Permit Officer, Division of Polar Programs, Rm. 755, National Science Foundation, 4201 Wilson Boulevard, Arlington, VA 22230. Or by email: ACApermits@nsf.gov.

SUPPLEMENTARY INFORMATION: The Foundation issued a permit (ACA 2014-003) to Jennifer Burns on July 18, 2013. The issued permit allows the applicant to study the interaction of Weddell seal condition and the timing of molting and reproduction via capture, restraint, and sedation of adult female seals to conduct health assessments and attach tags.

A recent modification to this permit, dated December 2, 2014, permitted several handling modifications for animals.

Now the applicant proposes a permit modification to attach 2 new types of tags, to conduct nasal swabs, and to keep on some of the tags over winter to collect more data. Both new proposed tags are less than 100g. The seals are already sedated for other permitted procedures, and these new tag attachments and procedures would not increase handling time, since they can be simultaneously conducted during ultrasounds.

The Environmental Officer has reviewed the modification request and has determined that the amendment is not a material change to the permit, and it will have a less than a minor or transitory impact.

November 20, 2015 to February 28, 2017.

The permit modification was issued on November 20, 2015.
Nadene G. Kennedy,
Polar Coordination Specialist, Division of Polar Programs.

[FR Doc. 2015-30149 Filed 11-25-15; 8:45 am]

BILLING CODE 7555-01-P